DEPARTMENT OF DEFENSE

Department of the Navy

Notice of Intent To Grant Exclusive Patent Licenses; Cummins Industries, Inc

AGENCY: Department of the Navy, DOD.

ACTION: Notice.

SUMMARY: The Department of the Navy hereby gives notice of prospective licenses to Cummins Industries, Inc. to the Government-owned inventions described in U.S. Patent Serial No. 09/533,954 entitled, “Chemical Warfare Agent Decontamination Foaming Composition and Method,” filed March 22, 2000, Navy Case No. 82169, U.S. Patent Serial No. 09/606,113 entitled, “Method of Neutralizing Organophosphorous Agricultural Chemicals,” filed June 8, 2000, Navy Case No. 82170, and U.S. Patent Serial No. 09/573,152 entitled, “Decontamination Solution and Method,” filed May 19, 2000, Navy Case No. 82505.

DATES: Anyone wishing to object to the granting of these licenses must file written objections along with supporting documents, if any, not later than April 16, 2001.

ADDRESSES: Written objections are to be filed with the Office of Patent Counsel, Naval Surface Warfare Center, Dahlgren Laboratory, CD222, 17320 Dahlgren Road, Dahlgren, VA 22448-5100.

FOR FURTHER INFORMATION CONTACT: James B. Bechtel, Esq., Patent Counsel, Naval Surface, Warfare Center, Dahlgren Laboratory, Code CD222, telephone: (540) 653-8061, fax: (540) 653-7816, or email: BechtelJB@nswc.navy.mil.

Authority: 35 U.S.C. 207, 37 CFR Part 404.

Dated: February 2, 2001.
J. L. ROTH,
Lieutenant Commander, Judge Advocate General's Corps,, U.S. Navy, Federal Register Liaison Officer.

[FR Doc. 01-3680 Filed 2-13-01; 8:45 am]

BILLING CODE 3810-FF-U